DEPARTMENT OF ENERGY

Federal Energy Regulatory Commission

[Docket No. EC00-115-000, et al.]

Electric Rate and Corporate Regulation Filings; FortisUS Energy Corporation, et al.

July 27, 2000.

Take notice that the following filings have been made with the Commission:

1. FortisUS Energy Corporation

[Docket No. EC00-115-000]

Take notice that on July 20, 2000, FortisUS Energy Corporation tendered for filing, pursuant to Section 203 of the Federal Power Act, 16 U.S.C. Section 824b (1994), and Part 33 of the Commission's regulations, 18 CFR Part 33, an application for authorization to dispose of jurisdictional facilities under an intra-corporate restructuring.

Comment date: August 21, 2000, in accordance with Standard Paragraph E at the end of this notice.

2. Virginia Electric and Power Company

[Docket No. ER00-2075-001]

Take notice that on July 24, 2000, Virginia Electric and Power Company (Virginia Power or the Company) tendered for filing an amended filing consisting of an Amended Power Purchase Agreement (Amendment) with Dynegy Power Marketing, Inc. (Dynegy) dated July 19, 2000 and the Power Purchase Agreement between Virginia Power and Dynegy dated September 30, 1999 on a non-confidential basis. The Company filed the amended filing in response to the Commission's June 23, 2000 deficiency letter in this proceeding.

Virginia Power requests that the Commission accept the Amendment under the Company's Revised Market-Based Rate Tariff designated as FERC Electric Tariff (Second Revised Volume No. 4).

The Company asks that the Commission grant a waiver to make the Amendment effective June 1, 2000.

Copies of the filing were served upon the parties of record, Dynegy Power Marketing, Inc., the Virginia State Corporation Commission and the North Carolina Utilities Commission.

Comment date: August 14, 2000, in accordance with Standard Paragraph E at the end of this notice.

3. Wisconsin Public Service Corporation

[Docket No. ER00-3132-000]

Take notice that on July 24, 2000, Wisconsin Public Service Corporation (WPSC) tendered for filing an amendment to the executed Service Agreement with Wind Utility Consulting providing for transmission service under FERC Electric Tariff, Volume No. 1.

Comment date: August 14, 2000, in accordance with Standard Paragraph E at the end of this notice.

4. Wisconsin Public Service Corporation

[Docket No. ER00-3133-000]

Take notice that on July 24, 2000, Wisconsin Public Service Corporation (WPSC) tendered for filing an amendment to the executed Service Agreement with Wind Utility Consulting providing for transmission service under FERC Electric Tariff, Volume No. 1.

Comment date: August 14, 2000, in accordance with Standard Paragraph E at the end of this notice.

5. Oleander Power Project, Limited Partnership

[Docket No. ER00-3240-000]

Take notice that on July 24, 2000, Oleander Power Project, Limited Partnership (Oleander) submitted for filing, pursuant to Section 205 of the Federal Power Act, and Part 35 of the Commission's regulations, a Petition for authorization to make sales of capacity, energy, and certain Ancillary Services at market-based rates, and to reassign transmission capacity. Oleander proposes to construct a natural gas-fired, simple cycle power plant with a nominal generating capacity of approximately 875 MW on a site located in Brevard County, Florida.

Comment date: August 14, 2000, in accordance with Standard Paragraph E at the end of this notice.

6. California Independent System Operator Corporation

[Docket No. ER00-3241-000]

Take notice that on July 24, 2000, the California Independent System Operator Corporation tendered for filing a Participating Generator Agreement between the ISO and Wheelabrator Shasta Energy Company for acceptance by the Commission.

The ISO states that this filing has been served on Wheelabrator Shasta Energy Company and the California Public Utilities Commission.

The ISO is requesting waiver of the 60-day notice requirement to allow the Participating Generator Agreement to be made effective July 12, 2000.

Comment date: August 14, 2000, in accordance with Standard Paragraph E at the end of this notice.

7. California Independent System Operator Corporation

[Docket No. ER00-3242-000]

Take notice that on July 24, 2000, the California Independent System Operator Corporation tendered for filing a Meter Service Agreement for ISO Metered Entities between the ISO and Wheelabrator Shasta Energy Company for acceptance by the Commission.

The ISO states that this filing has been served on Wheelabrator Shasta Energy Company and the California Public Utilities Commission.

The ISO is requesting waiver of the 60-day notice requirement to allow the Meter Service Agreement for ISO Metered Entities to be made effective July 12, 2000.

Comment date: August 14, 2000, in accordance with Standard Paragraph E at the end of this notice.

8. Pacific Gas and Electric Company

[Docket No. ER99-3603-001]

Take notice that on July 24, 2000, Pacific Gas and Electric Company tendered for filing a refund report in compliance with the April 26, 2000, Letter Order issued by the Federal Energy Regulatory Commission (Commission) approving the Offer of Settlement filed in the above-referenced docket on March 3, 2000.

Comment date: August 14, 2000, in accordance with Standard Paragraph E at the end of this notice.

9. Ameren Services Company

[Docket No. ER00-3016-000]

Take notice that on July 21, 2000, Ameren Services Company (ASC), tendered for filing an amendment to the Network Integration Transmission Service Agreement between Ameren Services and Illinois Municipal Electric Agency (IMEA). Ameren Services asserts that the purpose of the amended filing is to file Attachment B which was inadvertently omitted from the original filing.

Comment date: August 11, 2000, in accordance with Standard Paragraph E at the end of this notice.

10. West Texas Utilities Company

[Docket No. ER00-3243-000]

Take notice that on July 24, 2000, West Texas Utilities Company (WTU), tendered for filing revised tariff sheets to its Wholesale Power Choice Tariff (WPC Tariff) to reflect changes being implemented in several sections of the WPC Tariff pursuant to agreement of WTU and the WPC Customers.

WTU seeks an effective date of June 15, 2000 and, accordingly, seeks waiver of the Commission's notice requirements.

Copies of the filing have been served on the affected WPC Customers and on the Public Utility Commission of Texas.

Comment date: August 14, 2000, in accordance with Standard Paragraph E at the end of this notice.

11. Southwest Power Pool, Inc.

[Docket No. ER00-3244-000]

Take notice that on July 24, 2000, Southwest Power Pool, Inc. (SPP), tendered for filing executed service agreements for Firm Point-to-Point Transmission Service, Non-Firm Point-to-Point Transmission Service and Loss Compensation Service with The Legacy Energy Group, LLC (Transmission Customer).

SPP seeks an effective date of July 18, 2000, for each of the service agreements. Copies of this filing were served on the Transmission Customer.

Comment date: August 14, 2000, in accordance with Standard Paragraph E at the end of this notice.

12. Arizona Public Service Company

[Docket No. ER00-3245-000]

Take notice that on July 24, 2000, Arizona Public Service Company (APS), tendered for filing notice that effective July 31, 2000, APS FERC Rate Schedule No. 201, effective date June 1, 1976 and filed with the Federal Energy Regulatory Commission by Arizona Public Service Company is to be canceled.

Notice of the proposed cancellation has been served upon The San Carlos Irrigation Project and The Arizona Corporation Commission.

Comment date: August 14, 2000, in accordance with Standard Paragraph E at the end of this notice.

13. Exelon Generation Company, L.L.C.; PECO Energy Company; Commonwealth Edison Company; Horizon Energy Company; AmerGen Energy Company, L.L.C.; AmerGen Vermont, LLC; Unicom Power Marketing, Inc.; Unicom Energy, Inc.

[Docket Nos. ER00-3251-000, ER99-1872-002, ER98-1734-002, ER98-380-012, ER99-754-004, ER00-1030-001, ER97-3954-012, ER00-2429-001]

Take notice that on July 24, 2000, Exelon Generation Company, L.L.C., PECO Energy Company, Commonwealth Edison Company, Horizon Energy Company, AmerGen Energy Company, L.L.C., AmerGen Vermont, LLC, Unicom Power Marketing, Inc., and Unicom Energy, Inc., tendered for filing the Application of Exelon Generation Company for Market-based Rate Authority and Application of Exelon Corporation Subsidiaries and Affiliates for Other Forms of Relief under Section 205 of the Federal Power Act.

Comment date: August 14, 2000, in accordance with Standard Paragraph E at the end of this notice.

14. Montana Power Company

[Docket No. ER00-3252-000]

Take notice that on July 24, 2000, Montana Power Company (Montana) tendered for filing with the Federal Energy Regulatory Commission pursuant to 18 CFR 35.13, executed Firm and Non-Firm Point-To-Point Transmission Service Agreements with Constellation Power Source, Inc., under Montana's FERC Electric Tariff, Fourth Revised Volume No. 5 (Open Access Transmission Tariff).

A copy of the filing was served upon Constellation Power Source, Inc.

Comment date: August 14, 2000, in accordance with Standard Paragraph E at the end of this notice.

15. Florida Power & Light Company

[Docket No. ER00-3253-000]

Take notice that on July 24, 2000, Florida Power & Light Company (FPL), tendered for filing a proposed notice of cancellation of an umbrella service agreement with Sonat Power Marketing, Inc., for non-firm transmission service under FPL's Open Access Transmission Tariff.

FPL requests that the proposed cancellation be permitted to become effective on July 21, 2000.

FPL states that this filing is in accordance with Section 35 of the Commission's regulations.

Comment date: August 14, 2000, in accordance with Standard Paragraph E at the end of this notice.

16. Arizona Public Service Company

[Docket No. ER00-3246-000]

Take notice that on July 24, 2000, Arizona Public Service Company (APS), tendered for filing Quarterly Refund payments to eligible wholesale customers under the Company's Fuel Cost Adjustment Clause (FAC).

A copy of this filing has been served upon the affected parties, the California Public Utilities Commission, and the Arizona Corporation Commission.

Customer name | APS-FPC/FERC rate schedule
Electrical District No. 3 | 12
Tohono O'odham Utility Authority ¹ | 52
Arizona Electric Power Cooperative | 57
Wellton-Mohawk Irrigation and Drainage District | 58
Arizona Power Authority | 59
Colorado River Indian Irrigation Project | ² 65
Electrical District No. 1 | 68
Arizona Power Pooling Association | 70
Town of Wickenburg | 74
Southern California Edison Company | 120
Electrical District No. 6 | 126
Electrical District No. 7 | 128
City of Page | 134
Electrical District No. 8 | 140
Aguila Irrigation District | 141
McMullen Valley Water Conservation and Drainage District | 142
Tonopah Irrigation District | 143
Citizens Utilities Company | ² 207
Harquahala Valley Power District | 153
Buckeye Water Conservation and Drainage District | 155
Roosevelt Irrigation District | 158
Maricopa County Municipal Water Conservation District | 168
City of Williams | 192
San Carlos Indian Irrigation Project | 201
Maricopa County Municipal Water Conservation District at Lake Pleasant | 209
¹ Formerly Papago Utility Tribal Authority.
² 2 APS-FPC/FERC Rate Schedule in effect during the refund period.

Comment date: August 14, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-19744 Filed 8-3-00; 8:45 am]

BILLING CODE 6717-01-U